FEDERAL COMMUNICATIONS COMMISSION

47 CFR Part 64

[CG Docket 03-123; DA 06-2532]

Telecommunications Relay Services and Speech-to-Speech Services for Individuals With Hearing and Speech Disabilities

AGENCY: Federal Communications Commission.

ACTION: Final rule; extension of waiver.

SUMMARY: In this document, the Commission extends for an additional year the waiver of the emergency call handling requirement for providers of Video Relay Service (VRS). The Commission extends the waiver for one year in view of continued technological challenges to determining the geographic location of telecommunications relay service (TRS) calls that originate via the Internet.

DATES: The waiver of the emergency call handling requirement will expire on January 1, 2008, or upon the release of an order addressing the VRS emergency call handling issue, whichever comes first.

FOR FURTHER INFORMATION CONTACT: Thomas Chandler, (202) 418-1475 (voice), (202) 418-0597 (TTY), or e-mail Thomas.Chandler@fcc.gov.

SUPPLEMENTARY INFORMATION: On December 31, 2001, the Commission released Telecommunications Relay Services and Speech-to-Speech Services for Individuals with Hearing and Speech Disabilities, Waiver Order, DA 01-3029, CC Docket No. 98-67, 17 FCC Rcd 157 (2001), granting VRS providers a waiver until December 31, 2003, of certain TRS mandatory minimum standards, including the emergency call handling requirement. On December 19, 2003, the Commission released Telecommunications Relay Services and Speech-to-Speech Services for Individuals with Hearing and Speech Disabilities, Order, DA 03-4029, CC Docket No. 98-67, 18 FCC Rcd 26309 (2003), extending the waiver to June 30, 2004. On June 30, 2004, the Commission released Telecommunications Relay Services and Speech-to-Speech Services for Individuals with Hearing and Speech Disabilities, 2004 TRS Report and Order, FCC 04-137, CC Docket No. 98-67, published at 69 FR 53382, September 1, 2004, extending the waiver until January 1, 2006. On December 5, 2005, the Commission released Telecommunications Relay Services and Speech-to-Speech Services for Individuals with Hearing and Speech Disabilities, Order, DA 05-3139, CG Docket No. 03-123, published at 70 FR 76712, December 28, 2005, again extending the waiver until January 1, 2007. This is a summary of the Commission's document DA 06-2532, adopted December 15, 2006, released December 15, 2006.

To request materials in accessible formats for people with disabilities (Braille, large print, electronic files, audio format), send an e-mail to fcc504@fcc.gov or call the Consumer & Governmental Affairs Bureau at (202) 418-0530 (voice) or (202) 418-0432 (TTY). The Commission's document DA 06-2532 can also be downloaded in Word and Portable Document Format (PDF) at http://www.fcc.gov/cgb.dro.

Synopsis

The Commission's TRS regulations set forth operational, technical, and functional mandatory minimum standards applicable to the provision of TRS. See 47 CFR 64.604 of the Commission's rules (the TRS “mandatory minimum standards”). To be eligible for reimbursement from the Interstate TRS Fund for the provision of TRS, the provider must offer service in compliance with all applicable mandatory minimum standards, unless waived. See Telecommunications Relay Services and Speech-to-Speech Services for Individuals with Hearing and Speech Disabilities, Report and Order and Further Notice of Proposed Rulemaking (Improved TRS Order and FNPRM), FCC 00-56, CC Docket No. 98-67, published at 65 FR 38432, June 21, 2000 and 65 FR 38490, June 21, 2000.

The mandatory minimum standards require TRS providers to handle emergency calls by immediately and automatically transferring the calls to an appropriate public safety answering point (PSAP). See 47 CFR 64.604(a)(4) of the Commission's rules. The Commission recognized that many individuals use VRS and IP Relay to contact emergency services despite the fact that persons with hearing and speech disabilities can make calls directly to the PSAP by calling 911 through a TTY and a traditional telephone line. See Telecommunications Relay Services and Speech-to-Speech Services for Individuals with Hearing and Speech Disabilities, Notice of Proposed Rulemaking (VRS 911 NPRM), FCC 05-196, CG Docket No. 03-123, published at 71 FR 5221, February 1, 2006. Regulations require state and local governments to make emergency services directly accessible to TTY users (i.e., for direct TTY to TTY calls).

In March 2000, the Commission recognized VRS as a form of TRS eligible for compensation from the Interstate TRS Fund. See Improved TRS Order and FNPRM, 15 FCC Rcd 5152-5154, paragraphs 21-27. On December 31, 2001, the Commission granted VRS providers a two-year waiver of certain TRS mandatory minimum standards, including the emergency call handling requirement. This waiver was extended to January 1, 2007. See Telecommunications Relay Services Speech-to-Speech Services for Individuals with Hearing and Speech Disabilities, Order (2005 VRS 911 Waiver Order), DA 05-3139, CG Docket No. 03-123, published at 70 FR76712, December 28, 2005.

On November 30, 2005, the Commission released the VRS 911 NPRM, seeking comment on how providers of the Internet-based TRS services, including VRS, may determine the appropriate PSAP to contact when they receive an emergency call. See (VRS 911 NPRM). The Commission emphasized the importance of developing the technology required to promptly route VRS calls seeking emergency assistance to the appropriate emergency service provider. VRS 911 NPRM, 20 FCC Rcd 19476—19477, paragraphs 1-2, 19484, paragraph 18.

On November 14, 2006, Sprint Nextel Corporation filed a petition to extend the waiver until January 1, 2008, or until the release of an order addressing this matter, whichever happens first. Sprint Nextel Corporation (Sprint), Petition for Waiver, CG Docket No. 03-123, filed November 14, 2006 (Sprint Petition). In its petition, Sprint states that the technological challenges that led to the extension of the current waiver for VRS are still present. Sprint therefore states that because providers are still unable to automatically determine the geographic location of VRS callers, there is good cause for extending the waiver.

On November 15, 2006, the Commission held the E9-1-1 Disability Access Summit (Summit) to discuss advances in E9-1-1 calling technology and access for persons with hearing and speech disabilities, including via VRS calls. FCC Releases Agenda for November 15 E9-1-1 Disability Access Summit, News Release (November 13, 2006). The Summit brought together representatives from the government, industry, and consumer groups to exchange information and evaluate options for addressing this critical issue.

During the Summit, Sprint, Communications Services for the Deaf (CSD), Communications Access Center (CAC), Hands On Video Relay Services (Hands On), Hamilton Relay (Hamilton), and Sorenson Communications (Sorenson), all VRS providers, noted that technology has not yet been developed to allow them to automatically forward emergency VRS calls to the appropriate PSAP. See E9-1-1 Disability Access Summit, Meeting Transcript (November 15, 2006). They also explained the interim methods being used to connect VRS calls to PSAPs. These include ensuring that incoming emergency VRS calls are given priority call handling, using two CAs during an emergency call to ensure that location and other necessary information is gathered from the VRS user, in other words, in addition to the CA handling the relay call, a second CA would assist in relaying the call and use of a national database to locate the appropriate PSAP to call. CSD Comments, E9-1-1 Disability Access Summit, Provider Panel. In other words, if the VRS caller is able to do so, the caller provides the CA with his or her location, the CA determines the appropriate PSAP for that location through a national database, and the CA then makes the outbound call to the PASP. Another provider noted that its CAs will stay on the call until the first responders arrive at the emergency location to ensure that the VRS user is able to communicate with the emergency personnel. Sorenson Comments, E9-1-1 Disability Access Summit, Provider Panel.

Also during the Summit, Consumer groups acknowledged that users are moving away from using TTYs and that VRS is now widely used in the deaf community. See, e.g., NorCal Center on Deafness Comments, E9-1-1 Disability Access Summit, Consumer Panel. Consumers also advocated for the development of automated methods for determining the location of VRS callers, the ability to handle emergency calls from mobile devices, training for 911 operators on responding to calls from persons with speech or hearing disabilities, and interoperability between PSAPs. See E9-1-1 Disability Access Summit, Consumer Panel (panelist representing consumers included Sheri Farinha Mutti, Claude Stout, Rebecca Ladew, Ed Bosson, and Elizabeth Spiers).

Discussion

The Commission recognizes the vital importance of access to emergency services for all relay services, particularly VRS. For this reason, the Commission sought detailed comment on this issue in the VRS 911 NPRM, and recently held the E9-1-1 Disability Access Summit to explore continuing developments to finding a solution to this issue. The Commission also recognizes, however, that although providers and other interested parties are actively working toward a solution to this critical issue, presently a technological solution does not exist to automatically route Internet-based emergency VRS calls to the appropriate PSAP—i.e., to automatically determine the geographic location of the VRS caller so the call can be linked to the appropriate PSAP. For this reason, some providers have taken interim measures for handling emergency calls. For example, some providers are able to give emergency calls priority call handling. See, e.g., Sorenson Comments, E9-1-1 Disability Access Summit, Provider Panel. Providers may consider the feasibility of using a dedicated emergency calling “link” on their VRS Web-site that callers making an emergency VRS call can use and that will allow providers to promptly identify and handle incoming emergency calls. Others use two CAs on an emergency call to assist in gathering accurate information from the caller. See, e.g., E9-1-1 Disability Access Summit, Provider Panel (remarks of CSD and Verizon). At least one provider uses a national database to determine the appropriate PSAP for the caller's location. See, e.g., Sorenson Comments, E9-1-1 Disability Access Summit, Provider Panel (noting that it uses Intrado to determine the appropriate PSAP and its telephone number for a particular address). Until a technological solution is adopted that automatically routes VRS 911 calls, the Commission encourages all VRS providers to take similar or other steps to ensure that emergency calls are routed to the appropriate PSAP as quickly as possible.

The Commission may waive a provision of its rules for “good cause shown.” 47 CFR 1.3; see generally 2004 TRS Report and Order, 19 FCC Rcd 12520, paragraph 110 (discussing standard for waiving Commission rules). Because it is apparent that the current state of technology does not allow a means of automatically determining the geographic location of TRS calls originating via the Internet, including VRS calls, the Commission finds good cause exists to extend the present waiver of the emergency call handling requirement for VRS providers until January 1, 2008 or upon the release of an order addressing this issue, whichever comes first. The Commission also notes that a similar issue exists with respect to VoIP service (i.e., voice telephone calls made via the Internet rather than the PSTN), and that for this reason, the Commission has presently mandated that VoIP providers obtain a registered location for each of their customers so that the providers can direct an emergency VoIP call to the appropriate PSAP. In the pending VRS 911 NPRM, the Commission sought comment on the adoption of a registered location requirement similar to the VoIP requirement. VRS 911 NPRM, 20 FCC Rcd 19484-19486, paragraphs 19-22. In addition, the Commission raised other potential options for addressing emergency call handling, including developing a unified database of PSAPs that providers could use when receiving an emergency call, requiring providers to give priority access to emergency calls, and structuring VRS and IP Relay calls in such a way that they include a VoIP call, so that the VoIP registration could apply to the VRS or IP Relay call. VRS 911 NPRM, 20 FCC Rcd 19487, paragraphs 24-26. These issues remain pending.

Ordering Clause

Pursuant to the authority contained in sections 225 of the Communications Act of 1934, as amended, 47 U.S.C. 225, and § § 0.141, 0.361, and 1.3 of the Commission's rules, 47 CFR 0.141, 0.361, 1.3, the Order is adopted.

Federal Communications Commission.
Jay Keithley,
Deputy Bureau Chief, Consumer & Governmental Affairs Bureau.

[FR Doc. E7-4248 Filed 3-13-07; 8:45 am]

BILLING CODE 6712-01-P